DEPARTMENT OF DEFENSE

Office of the Secretary

[Transmittal No. 19-27]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-27 with attached Policy Justification and Sensitivity of Technology.

Dated: June 7, 2019.
Aaron T. Siegel,
Alternate OSD Federal Register Liaison Officer, Department of Defense.

BILLING CODE 5001-06-P

BILLING CODE 5001-06-C

Transmittal No. 19-27

Notice of Proposed Issuance of Letter of Offer Pursuant to Section 36(b)(1) of the Arms Export Control Act, as amended

(i) Prospective Purchaser: Government of Belgium

(ii) Total Estimated Value:

Major Defense Equipment * | $275 million
Other | $325 million
TOTAL | $600 million

(iii) Description and Quantity or Quantities of Articles or Services under Consideration for Purchase:

Major Defense Equipment (MDE):

Four (4) MQ-9B, Remotely Piloted Aircraft

Two (2) Fixed Certifiable Ground Control Stations

Five (5) AN/DAS-4 Multi-Spectral Targeting Systems (4 installed, 1 spare)

Fifteen (15) Embedded Global Positioning System/Inertial Navigation Systems (EGI) (12 installed, 3 spares)

Five (5) AN/APY-8 Lynx Synthetic Aperture Radars (4 installed, 1 spare)

Five (5) Detect and Avoid Systems (4 installed, 1 spare)

Non-MDE: Also included are an Initial Spares Package (ISP) and Readiness Spares Package (RSP) to support a 5-year period of performance; communications equipment; Identification Friend or Foe (IFF) equipment; spare and repair parts; support and test equipment; publications and technical documentation; personnel training and training equipment; U.S. Government and contractor engineering; technical and logistics support services; and other related elements of logistical and program support.

(iv) Military Department: Air Force (BE-D-SAE)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: March 25, 2019

* As defined in Section 47(6) of the Arms Export Control Act.

POLICY JUSTIFICATION

Belgium—MQ-9B SkvGuardian Remotely Piloted Aircraft (RPA)

The Government of Belgium has requested to purchase four (4) MQ-9B, RPA; two (2) Fixed Certifiable Ground Control Stations; five (5) AN/DAS-4 Multi-Spectral Targeting Systems (4 installed, 1 spare); fifteen (15) Embedded Global Positioning System/Inertial Navigation Systems (EGI) (12 installed, 3 spares); five (5) AN/APY-8 Lynx Synthetic Aperture Radars (4 installed, 1 spare); and five (5) Detect and Avoid Systems (4 installed, 1 spare). Also included are an Initial Spares Package (ISP) and Readiness Spares Package (RSP) to support a 5-year period of performance; spare and repair parts; support and test equipment; publications and technical documentation; personnel training and training equipment; U.S. Government and contractor engineering; technical and logistics support services; and other related elements of logistical and program support. The total estimated program cost is $600 million.

This proposed sale will support the foreign policy and national security of the United States by helping to improve the security of a NATO ally. It is vital to the U.S. national interest to assist Belgium to develop and maintain a strong and ready self-defense capability. This potential sale enhances the intelligence, surveillance, and reconnaissance (ISR) capability of the Belgian military in support of national, NATO, United Nation-mandated, and other coalition operations. Commonality of ISR capabilities increases interoperability between the U.S. and Belgian military and peacekeeping forces.

Belgium intends to use these defense articles and services to provide for the defense of its deployed troops, regional security, domestic security, and interoperability with the U.S./NATO partners. The current fleet of Belgian Air Component aircraft have proven insufficient to support sustained and persistent ISR operations. The proposed sale will enable the Belgian Air Component to conduct persistent and wide area ISR, including target acquisition, target designation, providing precision coordinates for Global Positioning System (GPS)-aided munitions, battle damage assessment, signal intelligence, communication, and data relays. Belgium will have no difficulty absorbing this equipment and support into its armed forces.

The proposed sale of this equipment and support will not alter the basic military balance in the region.

The principal contractor will be General Atomics Aeronautical Systems, Inc., San Diego, California. There are no known offset agreements proposed in connection with this potential sale.

Implementation of this proposed sale may require multiple trips to Belgium and potentially a deployed location for U.S. contractor representatives to provide initial launch, recovery, and maintenance support.

There will be no adverse impact on U.S. defense readiness as a result of this proposed sale.

Transmittal No. 19-27

Notice of Proposed Issuance of Letter of Offer Pursuant to Section 36(b)(1) of the Arms Export Control Act

Annex

Item No. vii

(vii) Sensitivity of Technology:

1. The MQ-9B SkyGuardian Remotely Piloted Aircraft (RPA) is a weapons capable aircraft designed for Medium-Altitude Long-Endurance (MALE) Intelligence, Surveillance and Reconnaissance (ISR) and Target Acquisition and strike missions. The MQ-9B SkyGuardian RPA is not a USAF program of record but has close ties to, and builds upon, the proven success of the MQ-9A Reaper. The MQ-9B RPA is a Missile Technology Control Regime (MTCR) Category 1 system with a designed maximum payload of 4,800 pounds (800 pounds internal and 4,000 pounds external) and is capable of carrying multiple mission payloads aloft with a maximum range of greater than 5,500 nm. The MQ-9B provides up to 40 hours endurance, speeds up to 220 knots true air speed (KTAS) and a maximum altitude of 45,000 feet. The system is designed to be controlled by two operators within a Certifiable Ground Control Station (CGCS). The CGCS is designed to emulate a reconnaissance aircraft cockpit, giving users extensive means to operate both the aircraft and sensors. The MQ-9B is able to operate using a direct Line-of-Sight (LOS) datalink or Beyond Line-of-Sight (BLOS) through satellite communications (SATCOM). The design enables unmanned aerial vehicle (UAV) control to be transferred between multiple CGCSs, thus allowing remote-split operations and centralized mission control with other assets. The MQ-9B system can be deployed from a single site that supports launch/recovery, mission control, and maintenance. The system also supports remote-split operations where launch/recovery and maintenance occur at a Forward Operating Base and mission control is conducted from another location or Main Operating Base (MOB). The basic MQ-9B Unmanned Aerial System (UAS) is UNCLASSIFIED. However, inclusion of various sub-systems, capabilities, and potential weapons results in a maximum classification of SECRET.

2. The Belgian MQ-9B system will include the following components:

a. A secure Certifiable Ground Control Station (CGCS) with workstations that allow aircrew to operate the aircraft, execute the mission, and record/exploit downlinked payload data.

b. The AN/APY-8 Lynx IIe Block 20A Synthetic Aperture Radar and Ground Moving Target Indicator (SAR/GMTI) system provides an all-weather surveillance, tracking and targeting capability. The system operates in the Ku-band, using an offset-fed dish antenna mounted on a three-axis stabilized gimbal. It has a large field of regard, produces a strip map, and can image up to a 10km wide swath. Swaths from multiple passes can be combined for wide-area surveillance.

c. The AN/DAS-4 Multi-Spectral Targeting System (MTS-D) is a multi-use highly advanced EO/IR sensor providing long-range surveillance, high altitude, target acquisition, tracking, range finding, and laser designation developed and produced for use by the U.S. Air Force.

d. COMSEC is necessary for full functionality of the Embedded GPS-INS (EGI) and the AN/DPX-7 Identification Friend or Foe (IFF)/Transponder.

e. The Detect and Avoid System (DAAS) with Active Electronically Scanned Array (AESA) Due Regard Radar (DRR) is a multi-sensor system that detects and tracks cooperative and non-cooperative air traffic, and enables an autopilot response for deconfliction maneuvers.

f. The Belgium MQ-9B is intended to be used in the near-term only for ISR-type missions. As such, the system is not requested to be armed, but is requested to preserve the option to arm the systems should the need arise at a later time. If weaponized, the system is capable of being equipped with the U.S. Army AGM-114 Hellfire missile and various guided and unguided bombs.

3. If a technologically advanced adversary were to obtain knowledge of the specific hardware and software elements, the information could be used to develop countermeasures or equivalent systems which might reduce weapon system effectiveness or be used in the development of a system with similar or advanced capabilities.

4. This sale is necessary in furtherance of the U.S. foreign policy and national security objectives outlined in the enclosed Policy Justification. A determination has been made that Belgium can provide the same degree of protection for the sensitive technology being released as the U.S. Government.

5. All defense articles and services listed in this transmittal have been authorized for release and export to Belgium.

[FR Doc. 2019-12413 Filed 6-11-19; 8:45 am]

BILLING CODE 5001-06-P